DEPARTMENT OF ENERGY

Energy Information Administration

Agency Information Collection Extension

AGENCY: Energy Information Administration (EIA), Department of Energy (DOE).

ACTION: Agency information collection activities: Information collection extension; notice and request for comments.

SUMMARY: The Nuclear Waste Policy Act (NWPA) of 1982 required that DOE enter into Standard Contracts with all generators or owners of spent nuclear fuel and high-level radioactive waste of domestic origin. EIA, pursuant to the Paperwork Reduction Act of 1995, intends to extend for three years, Form NWPA-830G, “Appendix G-Standard Remittance Advice for Payment of Fees (including Annex A to Appendix G),” with the Office of Management and Budget (OMB). Form NWPA-830G is part of the Standard Contract for Disposal of Spent Nuclear Fuel and/or High-Level Radioactive Waste. Generators and owners of spent nuclear fuel and high-level radioactive waste of domestic origin paid fees into the nuclear waste fund based on net electricity generated and sold as defined in the Standard Contract.

In November 2013, a federal appeals court ruled that DOE must cease collection of the Spent Nuclear Fuel Disposal Fee. DOE determined that, effective May 16, 2014, the fee is reduced from 1.0 Mil per kilowatt-hour ($1 per megawatt-hour) to 0.0 Mil per kilowatt-hour ($0 per megawatt-hour), ultimately reducing to zero the quarterly collection of fees from domestic generators of nuclear electricity. However, through its Office of the General Counsel, DOE has directed EIA to continue activities associated with the collection and verification of net electricity generation data and estimation of the spent nuclear fuel disposal fees that would otherwise accrue from this generation. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 25, 2015. If you anticipate difficulty in submitting comments within that period, contact the person listed in ADDRESSES as soon as possible.

ADDRESSES: Written comments may be sent to Marta Gospodarczyk. To ensure receipt of the comments by the due date, submission by email (marta.gospodarczyk@eia.gov) is recommended. The mailing address is Office of Electricity, Coal, Nuclear, and Renewables Analysis, EI-34, Forrestal Building, U.S. Department of Energy, Washington, DC 20585. Alternatively, Ms. Gospodarczyk may be contacted by telephone at 202-586-0527.

FOR FURTHER INFORMATION CONTACT: Requests for additional information or copies of any forms and instructions should be directed to Ms. Gospodarczyk at the address listed above. The Form NWPA-830G, “Appendix G-Standard Remittance Advice for Payment of Fees,” including Annex A to Appendix G, may also be viewed here: http://www.eia.gov/survey/#nwpa-830g.

SUPPLEMENTARY INFORMATION: This information collection request contains:

(1) OMB No. 1901-0260;

(2) Information Collection Request Title: Standard Contract for Disposal of Spent Nuclear Fuel and/or High-Level Radioactive Waste;

(3) Type of Request: Three-year extension;

(4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. This information is used to assess the adequacy of energy resources to meet near and longer term domestic demands.

EIA, as part of its effort to comply with the Paperwork Reduction Act of 1995 (44 U.S.C. 3501 et seq.), provides the general public and other federal agencies with opportunities to comment on collections of energy information conducted by or in conjunction with EIA. Also, EIA will later seek approval for this collection by OMB under Section 3507(a) of the Paperwork Reduction Act of 1995.

The Nuclear Waste Policy Act of 1982 (42 U.S.C. 10101 et seq.) required that DOE enter into Standard Contracts with all generators or owners of spent nuclear fuel and high-level radioactive waste of domestic origin. Form NWPA-830G, “Appendix G-Standard Remittance Advice for Payment of Fees,” including Annex A to Appendix G, is an Appendix to this Standard Contract. Appendix G and Annex A to Appendix G are commonly referred to as Remittance Advice (RA) forms. RA forms must be submitted quarterly by generators and owners of spent nuclear fuel and high-level radioactive waste of domestic origin who signed the Standard Contract. Appendix G is designed to serve as the source document for entries into DOE accounting records to transmit data to DOE concerning payment of fees into the Nuclear Waste Fund for spent nuclear fuel and high-level waste disposal. Annex A to Appendix G is used to provide data on the amount of net electricity generated and sold, upon which these fees are based.

Please refer to the proposed forms and instructions for more information about the purpose, who must report, when to report, where to submit, the elements to be reported, detailed instructions, provisions for confidentiality, and uses (including possible non-statistical uses) of the information. For instructions on obtaining materials, see the “For Further Information Contact” section.

(4a) Proposed Changes to Information Collection: No changes are proposed;

(5) Annual Estimated Number of Respondents: 100;

(6) Annual Estimated Number of Total Responses: 400;

(7) Annual Estimated Number of Burden Hours: 2,000;

(8) Annual Estimated Reporting and Recordkeeping Cost Burden: EIA estimates that there are no additional costs to respondents associated with the surveys other than the costs associated with the burden hours. The information is maintained in the normal course of business. The cost of burden hours to the respondents is estimated to be $143,940 ($71.97 per hour × 2,000 hours). Therefore, other than the cost of burden hours, EIA estimates that there are no additional costs for generating, maintaining and providing the information.

Statutory Authority: Federal Energy Administration Act of 1974 (15 U.S.C. 761 et seq.); DOE Organization Act (42 U.S.C. 7101 et seq.); and Nuclear Waste Policy Act of 1982 (42 U.S.C. 10101 et seq.).

Issued in Washington, DC, on June 19, 2015.
Nanda Srinivasan,
Director, Office of Survey Development and Statistical Integration, U.S. Energy Information Administration.

[FR Doc. 2015-15628 Filed 6-24-15; 8:45 am]

BILLING CODE 6450-01-P